DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Construction Project Reporting Surveys.

Form Number(s): C-700, C-700(SL), C-700(R).

Agency Approval Number: 0607-0153.

Type of Request: Revision of a currently approved collection.

Burden: 40,320 hours.

Number of Respondents: 13,440.

Avg. Hours Per Response: 15 minutes.

Needs and Uses: The Census Bureau conducts the Construction Project Reporting Surveys (CPRS) to provide the dollar value of construction put in place by private companies, individuals, private multifamily residential buildings, and state and local government sectors. The C-700 form (Private Construction Projects) collects construction put in place data for nonresidential projects owned by private companies or individuals. The C-700(R) (Multifamily Residential Projects) form collects construction put in place data for private multifamily residential buildings. Form C-700(SL) (State and Local Government Projects) collects construction put in place data for state and local government projects.

The Census Bureau uses the information from the CPRS to publish the value of construction put in place series. Published estimates are used by a variety of private business and trade associations to estimate the demand for building materials and to schedule production, distribution, and sales efforts. They also provide various governmental agencies with a tool to evaluate economic policy and to measure progress towards established goals. For example, Bureau of Economic Analysis staff use data to develop the construction components of gross private domestic investment in the gross domestic product. The Federal Reserve Board and the Department of Treasury use the value in place data to predict the gross domestic product, which is presented to the Board of Governors and has an impact on monetary policy.

With this clearance request we are requesting that all three forms (previously cleared separately) now be approved under the same OMB approval number. No substantive changes to any of the forms are planned.

Affected Public: Individuals or households; Businesses or other for-profit organizations; State, local or tribal government; Not-for-profit institutions.

Frequency: Monthly.

Respondent's Obligation: Voluntary.

Legal Authority: Title 13 U.S.C., Section 182.

OMB Desk Officer: Susan Schechter, (202) 395-5103.

Copies of the above information collection proposal can be obtained by calling or writing Madeleine Clayton, Departmental Forms Clearance Officer, (202) 482-3129, Department of Commerce, room 6086, 14th and Constitution Avenue, NW., Washington, DC 20230 (or via the Internet at mclayton@doc.gov).

Written comments and recommendations for the proposed information collection should be sent within 30 days of publication of this notice to Susan Schechter, OMB Desk Officer, room 10201, New Executive Office Building, Washington, DC 20503.

Dated: February 13, 2001.
Madeleine Clayton,
Departmental Forms Clearance Officer, Office of the Chief Information Officer.

[FR Doc. 01-4017 Filed 2-15-01; 8:45 am]

BILLING CODE 3510-07-P